DEPARTMENT OF TRANSPORTATION

National Highway Traffic Safety Administration

[U.S. DOT Docket No. NHTSA-2015-0112]

Reports, Forms, and Record Keeping Requirements; 60 Day Federal Register Notice

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes one collection of information for which NHTSA intends to seek OMB approval.

DATES: Comments must be received on or before January 8, 2016.

ADDRESSES: You may submit comments identified by DOT Docket ID Number NHTSA- 2015-0112 using any of the following methods:

Electronic submissions: Go to http://www.regulations.gov. Follow the online instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mary T. Byrd, Contracting Officer's Representative, Office of Behavioral Safety Research (NTI-132), National Highway Traffic Safety Administration, 1200 New Jersey Avenue SE., W46-466, Washington, DC 20590. Mary T. Byrd's phone number is 202-366-5595 and her email address is mary.byrd@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected; and

(iv) how to minimize the burden of the collection of information on those who are to respond, including the use of appropriate automated, electronic, mechanical, or other technological collection techniques or other forms of information technology, e.g., permitting electronic submission of responses.

In compliance with these requirements, NHTSA asks public comment on the following proposed collection of information:

Title: Evaluation of Community-Oriented Enforcement Demonstrations.

Type of Request: New information collection requirement.

OMB Clearance Number: None.

Form Number: NHTSA Forms 1321, 1322, 1325.

Requested Expiration Date of Approval: 3 years from date of approval.

Summary of the Collection of Information—The National Highway Traffic Safety Administration (NHTSA) proposes to conduct public awareness surveys to help evaluate two traffic safety demonstration projects: Building Community Support for (1) Seat Belt Enforcement and (2) Impaired Driving Enforcement. If clearance is granted, the public awareness surveys would be administered in-person at Department of Motor Vehicles Offices pre-, mid-, and post-program in the two program locations and the two comparison locations. Over the total data collection effort, 9,600 people would be surveyed, 4,800 for each program. Estimated administration length would be approximately 5 minutes for the recruitment questionnaire and 10 minutes for the awareness survey questionnaire. For the recruitment questionnaire, information on licensure status and age would be collected. For the awareness survey questionnaire, information on attitudes, awareness, knowledge, and behavior would be collected.

A Spanish-language translation of the awareness survey questionnaire would be used to minimize language barriers to participation. Additionally, participation in the proposed data collection would be anonymous; the questionnaires would not collect any personal information that would allow anyone to identify respondents. Participant names would not be collected.

Description of the Need for the Information and Proposed Use of the Information—The National Highway Traffic Safety Administration (NHTSA) was established by the Highway Safety Act of 1970 (23 U.S.C. 101) to carry out a Congressional mandate to reduce the mounting number of deaths, injuries, and economic losses resulting from motor vehicle crashes on the Nation's highways. As part of this statutory mandate, NHTSA is authorized to conduct research as a foundation for the development of motor vehicle standards and traffic safety programs.

In 2013, there were 10,076 fatalities in crashes involving a driver with a BAC of .08 or higher, which is 31% of total traffic fatalities in 2013.¹ In the same year, 49% of passenger vehicle occupants killed in crashes were unrestrained.² These data point to the continued need for countermeasure development to decrease impaired driving and increase seat belt use. The purpose of the proposed data collection is to evaluate the effectiveness of two programs designed to increase seat belt use and reduce alcohol-impaired and unrestrained crashes, injuries, and fatalities. The programs are designed to accomplish these goals by using increased enforcement activity driven by law enforcement and community partnerships that maximize community support for impaired driving and seat belt enforcement. The proposed data collection would survey licensed drivers eighteen years and older visiting Department of Motor Vehicles Offices residing in the program and comparison locations to find out about public support for enforcement, awareness of enforcement activity, exposure to community partner activities, and self-reported impaired driving and seat belt use. The collected responses would inform how well the program created community support and influenced safe driving behavior. An essential part of the proposed data collection would be to compare pre-, mid-, and post-program measures to determine how the program contributed to changes in participant responses; therefore, multiple measurements would be required.

¹ National Center for Statistics and Analysis. (2014, December). Alcohol-impaired driving: 2013 data. (Traffic Safety Facts. DOT HS 812 102). Washington, DC: National Highway Traffic Safety Administration. Retrieved from http://www-nrd.nhtsa.dot.gov/Pubs/812102.pdf.

² National Center for Statistics and Analysis. (2015, May). Occupant protection: 2013 data. (Traffic Safety Facts. DOT HS 812 153). Washington, DC: National Highway Traffic Safety Administration. Retrieved from http://www-nrd.nhtsa.dot.gov/Pubs/812153.pdf.

The findings from this proposed information collection would support NHTSA, the States, localities, and law enforcement agencies by providing evidence as to the effectiveness of the community-oriented enforcement approach under examination. The findings could be used to refocus existing impaired driving and seat belt programs in order to enhance their effect or to guide the development of new programs.

Description of the Likely Respondents (Including Estimated Number, and Proposed Frequency of Response to the Collection of Information)—Under this proposed effort, the potential respondent universe would be licensed drivers eighteen years and older visiting Department of Motor Vehicles Offices residing in the locations where the impaired driving and seat belt programs would be conducted, and in the two selected comparison locations. As of the time of this Notice, the program and comparison locations have not been selected. Over the total data collection effort, a total of 9,600 licensed drivers eighteen years and older would be surveyed, including 4,800 for each program. Based upon precision estimates, the target sample for the awareness survey questionnaire is 4,800, with 2,400 in each location. However, because NHTSA has estimated a 50% response rate based upon previously conducted data collections of a similar nature, NHTSA is estimating that a total of 9,600 potential participants would need to be administered a recruitment questionnaire in order to find 4,800 eligible volunteers to completed the target number of awareness survey questionnaires. NHTSA estimates that each recruitment questionnaire would take 5 minutes and that each awareness survey questionnaire would take an additional 10 minutes to complete.

Throughout the data collection, the privacy of all participants would be protected. Names, addresses, phone numbers, and email addresses would not be collected. The only information that would be collected would be participant zip code and demographic characteristics, such as age, gender, race, and ethnicity. Zip code would need to be collected to match the participant with either the program or comparison location to ensure that the measured change in public awareness could be associated with the program activity. Demographic information would need to be collected to conduct post-stratification weighting of the sample to U.S Census data to reduce sample bias. All collected data would be stored in restricted folders on secure password protected servers that are only accessible to research personnel with needed access to such information. In addition, all data collected from participants would be reported in aggregate, and individual participants would not be independently reported on in any reports resulting from this project.

Estimate of the Total Annual Reporting and Record Keeping Burden Resulting from the Collection of Information—NHTSA estimates that the total time for each respondent to participate in the data collection effort would either be 5 minutes or 15 minutes depending on eligibility and desire to participate. NHTSA estimates a 50% response rate, in which case 9,600 potential participants would to be administered the recruitment questionnaire in order to find 4,800 eligible volunteers to complete the awareness survey questionnaire. The total burden for the participants that would only complete the recruitment questionnaire would be 400 hours (i.e., 5 minutes × 4,800). The total burden for the participants that would complete the recruitment questionnaire and the awareness survey questionnaire would be 1,200 hours (i.e., 15 minutes × 4,800). The total burden for all participants would be 1,600 hours (i.e., 400 + 1,200). Because participants would be sampled from Department of Motor Vehicles Offices while they are waiting for service, participation would not include any participant reporting cost, record keeping cost, or record keeping burden.

Comments are invited on the following:

(i) Whether the proposed collection of information is necessary for the proper performance of the functions of the agency, including whether the information will have practical utility;

(ii) the accuracy of the agency's estimate of the burden of the proposed information collection;

(iii) ways to enhance the quality, utility, and clarity of the information to be collected; and

(iv) ways to minimize the burden of the collection of information on respondents, including the use of automated collection techniques or other forms of information technology.

Authority: 44 U.S.C. Section 3506(c)(2)(A).

Issued on: December 4, 2015.
Jeff Michael,
Associate Administrator, Research and Program Development.

[FR Doc. 2015-30995 Filed 12-8-15; 8:45 am]

BILLING CODE 4910-59-P